INTERNATIONAL TRADE COMMISSION

[Investigation Nos. 701-TA-448 and 731-TA-1117 (Review)]

Certain Off-the-Road Tires From China

Determination

On the basis of the record ¹ developed in the subject five-year reviews, the United States International Trade Commission (Commission) determines, pursuant to section 751(c) of the Tariff Act of 1930 (19 U.S.C. 1675(c)), that revocation of the countervailing duty order and antidumping duty order on certain off-the-road tires from China would be likely to lead to continuation or recurrence of material injury to an industry in the United States within a reasonably foreseeable time.

¹ The record is defined in sec. 207.2(f) of the Commission's Rules of Practice and Procedure (19 CFR 207.2(f)).

Background

The Commission instituted these reviews on August 1, 2013 (78 FR 46607) and determined on November 20, 2013 that it would conduct expedited reviews (78 FR 73560, December 6, 2013).

The Commission completed and filed its determinations in these reviews on January 15, 2014. The views of the Commission are contained in USITC Publication 4448 (January 2014), entitled Certain Off-the-Road Tires from China: Investigation Nos. 701-TA-448 and 731-TA-1117 (Review).

Dated: January 15, 2014.
By order of the Commission.
Lisa R. Barton,
Acting Secretary to the Commission.

[FR Doc. 2014-01102 Filed 1-21-14; 8:45 am]

BILLING CODE 7020-02-P